DEPARTMENT OF COMMERCE

National Oceanic and Atmospheric Administration

[I.D. 021506E]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold several public hearings in Hawaii to seek input on measures to end bottomfish overfishing in Hawaii and options for fishing regulations for bottomfish and pelagics in the Northwestern Hawaiian Islands (NWHI). Further, the Council will hold its 131st meeting and convene a meeting of its Advisory Panel to consider and take actions on fishery management issues in the Western Pacific Region.

DATES: The 131st Council meeting and Advisory Panel meetings will be held on March 13 - 16, 2006. The public hearings on the Hawaii bottomfish overfishing options and NWHI Fishing regulations will be held in March 2006. See SUPPLEMENTARY INFORMATION for specific times and times of these public hearings.

ADDRESSES: The 131st Council meeting and Advisory Panel meetings and public hearings will be held at the Ala Moana Hotel, 410 Atkinson Drive, Honolulu, HI; telephone: (808) 955-4811. See SUPPLEMENTARY INFORMATION for specific locations of the public hearings on the bottomfish overfishing options and NWHI Fishing regulations.

FOR FURTHER INFORMATION CONTACT: Kitty M. Simonds, Executive Director; telephone: (808) 522-8220.

SUPPLEMENTARY INFORMATION:

The location, dates, and times for the public hearings on bottomfish overfishing options and NWHI fishing regulations are listed below:

1. Kahului, Maui, Hawaii—Thursday, March 2, 2006, from 6 p.m. to 9 p.m,. at the Maui Beach Hotel, 170 Kaahumanu Ave., Kahului, HI 96732;

2. Hana, Maui, Hawaii—Friday, March 3, 2006, from 6 p.m. to 9 p.m., at the Helene Social Hall, Hana Bay Rd., Hana, HI 96713;

3. Hilo, Hawaii—Monday, March 6, 2006, from 6 p.m. to 9 p.m., at the University of Hawaii, Hilo Campus Center, 200 W. Kawili St., Hilo, HI 96720;

4. Naalehu, Hawaii—Tuesday, March 7, 2006, from 6 p.m. to 9 p.m., at the Naalehu Elementary School, 95545 Mamalahoa Hwy, Naalehu, HI 96772;

5. Kohala, Hawaii—Wednesday, March 8, 2006, from 6 p.m. to 9 p.m., at the Kohala High School, 54-3611 Akoni Pule Hwy, Kapaau, HI 96755;

6. Kaunakakai, Molokai, Hawaii—Thursday, March 9, 2006, from 6 p.m. to 9 p.m., at the Mitchell Pauole Center Conference Room, 90 Ainoa St., Kaunakakai, HI 96748;

7. Kapaa, Kauai, Hawaii—Friday, March 10, 2006, from 6 p.m. to 9 p.m., at the Kapaa High School, 4695 Mailihuna Rd., Kapaa, HI;

8. Oahu, Hawaii—Tuesday, March 14, 2006, from 6 to 9 p.m., at the Ala Moana Hotel, 410 Atkinson Dr., Honolulu, HI 96815;

9. Oahu, Hawaii—Wednesday, March 15, 2006, from 8:30 a.m. to 5 p.m., at the Ala Moana Hotel, 410 Atkinson Dr., Honolulu, HI 96815;

10. Oahu, Hawaii Thursday, March 16, 2006, from 8:30 a.m. to 5 p.m., at the Ala Moana Hotel, 410 Atkinson Dr., Honolulu, HI 96815;

For more information on public hearing items, see BACKGROUND INFORMATION.

The schedule and agenda for the Council Advisory Panel meeting will include the items listed here.

8 a.m. - 5:30 p.m., Monday, March 13, 2006

A. Introduction and overview

B. Council Action Items

1. Pelagics Management

a. Bigeye and Other Tuna Conservation

b. American Samoa Limited Entry Program Update

2. Bottomfish Management

a. MHI Bottomfish Overfishing

3. Ecosystems and Habitat Management

a. NWHI Fishing Regulations

b. Fishery Ecosystem Plans

4. Fishery Rights of Indigenous People

a. Communities Program

b. Marine Conservation Plans

5. Other Issues

C. Discussion in Island Area Groups

1. American Samoa

2. Guam

3. CNMI

4. Hawai

D. Discussion by Advisory Panel Sub-panels

1. Commercial Panel

2. Recreational Panel

3. Subsistence Panel

4. Ecosystems & Habitat Panel

8 a.m. - 1 p.m., Tuesday, March 14, 2006

E. Sub-Panel Chairman Reports

1. Commercial Advisory Panel Report and Recommendations

2. Recreational Advisory Panel Report and Recommendations

3. Ecosystem and Habitat Advisory Panel Report and Recommendations

4. Indigenous and Subsistence Advisory Panel Report and Recommendations

5. Discussion

6. Other issues

7. Full Panel Discussion and Recommendations

8. Other Business

In addition to the agenda items listed here, the Council will hear recommendations from other Council advisory groups. Public comment periods will be provided throughout the agenda. The order in which agenda items are addressed may change. The Council will meet as late as necessary to complete scheduled business.

The schedule for Council Standing Committee meetings is listed here.

Monday, March 13, 2006

Standing Committee

1. 7:30 a.m. - 9 a.m., Enforcement/Vessel Monitoring System (VMS) Standing Committee

2. 9 a.m. - 11 a.m., Ecosystems & Habitat Standing Committee

3. 10 a.m. - 12 noon, Pelagics & International Standing Commmittee

4. 1 p.m. - 3 p.m., Bottomfish Standing Committee

5. 3 p.m. - 5 p.m., Program Planning, Executive, and Budget Standing Committee

The agenda during the full Council meeting will include the items listed here.

Schedule and Agenda for Council Meeting

8:30 a.m. - 5 p.m., Tuesday, March 14, 2006

1. Introductions

2. Approval of agenda

3. Approval of 129th and 130th meeting minutes

4. Island reports and Island Enforcement Agency Reports

A. American Samoa

B. Guam

C. Hawaii

D. CNMI

5. Reports from fishery agencies and organizations

A. Department of Commerce

a. NMFS

i. Pacific Islands Regional Office

ii. Pacific Islands Fisheries Science Center

B. The Department of the Interior

a. The U.S. Fish and Wildlife Service (USFWS)

C. NOAA General Counsel Southwest Region/Pacific Islands Region

D. Department of State

6. Enforcement/vessel monitoring systems

A. U.S. Coast Guard activities

B. NOAA Office of Law Enforcement (OLE) Activities

C. Status of Violations

D. Standing Committee Recommendations

7. Fishery Rights of Indigenous People

A. Communities Program

B. CDPP Update

C. Advisory Panel Recommendations

8. Precious Coral Fisheries

A. Black Coral Management and Research

a. Black Coral Amendment Update

b. Black Coral Workshop Plan

B. SSC Recommendations

8:30 a.m. - 5 p.m., Wednesday, March 15, 2006

9. Bottomfish Fisheries

A. Bottomfish Management

a. PIFSC Report on Hawaii Bottomfish

b. MHI Bottomfish Overfishing Measures

c. Assessment of existing and designation of new State of Hawaii bottomfish Restricted Fishing Areas (RFA)

B. Plan Team Recommendations

C. Advisory Panel Recommendations

D. SSC Recommendations

E. Standing Committee Recommendations

8:30 a.m. - 5 p.m., Thursday, March 16, 2006

10. Pelagic/International Fisheries

A. International Fisheries Management

a. WCPFC 2nd Meeting Resolutions

i. BET/YFT Conservation

ii. Northern & Southern Albacore

iii. Bycatch (turtles, seabirds, sharks non-target fish)

b. NMFS International Division Activities Report

i. Purse Seine Report

ii. Other International Activities

B. Hawaii Shortline/Handline Fishery Report

C. American Samoa & Hawaii Longline 2005 Fishery Reports

D. Advisory Panel Recommendations

E. SSC Recommendations

F. Standing Committee Recommendations

11. Protected Species Issues

A. Turtle Conservation Program Update

B. Observer Data and Science

a. NMFS-Pacific Islands Fishery Science Center

b. NMFS-Pacific Islands Regional Office Protected Species Report

C. SSC Recommendations

D. Standing Committee Recommendations

12. Ecosystems and Habitat

A. NWHI Sanctuary Fishing Regulations

B. Western Pacific Fishery Ecosystem Plans Update

C. NMSP/Council Fishing Regulation Protocol

D. NMFS Essential Fish Habitat Update

E. Ecosystem Social Science Workshop Report

F. Shark Viewing Update

G. SSC Recommendations

H. Standing Committee Recommendations

I. Advisory Panel Recommendations

13. Program Planning

A. Update on Legislation

B. Magnuson Act Reauthorization

C. Status of Fishery Management Actions

D. Education and Outreach Report

E. Report on State Disaster Relief Program

F. FDCC Report

G. Report on National Aquaculture

H. Standing Committee Recommendations

14. Administrative Matters and Budget

A. Financial Reports

B. Administrative Reports

C. Meetings and Workshops

D. SOPP Changes

E. Advisory Group Changes

F. Standing Committee Recommendations

G. Public Comment

H. Council Discussion and Action

15. Other Business

A. Next Meeting

BACKGROUND INFORMATION:

1. Hawaii Bottomfish Overfishing Options (ACTION ITEM)

On the basis of fishery information analyzed by NMFS Pacific Islands Fisheries Science Center (PIFSC), NMFS's Pacific Islands Regional Office (PIRO) has determined that overfishing of the bottomfish species complex is occurring within the Hawaii Archipelago. The Regional Administrator for PIRO notified the Council of this overfishing determination on May 27, 2005. The Magnuson-Stevens Act requires that the Council take action to amend the Bottomfish FMP to end bottomfish overfishing within 1 year following NMFS' notification of the bottomfish overfishing.

The Council has been preparing an amendment to the Bottomfish FMP, as well as a Draft Supplemental Environmental Impact Statement (DSEIS) to address the “overfishing” of Hawaii's bottomfish stocks. Contained in the FMP amendment and DSEIS are management measures to end bottomfish overfishing in the Hawaii Archipelago.

Hawaii's bottomfish are managed as a single archipelagic-wide multi-species stock complex, however, bottomfish fisheries in the Hawaii Archipelago occur in two broad management areas, the Northwestern Hawaiian Islands and the Main Hawaiian Islands (MHI). NMFS has determined that the bottomfish overfishing problem is primarily occurring in the MHI and, therefore, reducing fishing mortality (effort) there would be the most effective means to end the overfishing in the Hawaii Archipelago. The management measures considered in the amendment and DSEIS (except for the no action alternative) target a 15 percent or greater reduction in bottomfish fishing mortality in the MHI which has been determined by PIFSC to be the appropriate level of reduction to end overfishing.

The Alternatives considered include: (1) No Action; (2a) Closure of Federal waters around Penguin and Middle Banks; (2b) Closure of 15 large area across the main Hawaiian Islands; (3) Annual seasonal closure from May to August; (4a) Total annual quota; 4b) Individual fishing quotas; (5a) Annual seasonal closure from May to September except for a limited number of fishermen who fish under individual fishing quotas; and (5b)Annual seasonal closure from June to August and a partial closure of the southwestern portion of Penguin Bank.

The Council will consider these alternatives and will take final action on measures to end overfishing in the Hawaii bottomfish stock.

2. Northwestern Hawaiian Islands Fishing Regulations (ACTION ITEM)

On January 18, 2006, the Council was informed by the Under Secretary of Commerce for Oceans and Atmosphere, that NOAA is developing alternatives in the Draft Environmental Impact Statement for the proposed Northwestern Hawaiian Islands National Marine Sanctuary that would enable the Council to continue to recommend management measures to limit bottomfish and pelagic fisheries through regulations under the Magnuson-Stevens Fishery Conservation and Management Act, consistent with the goals and objectives of the proposed sanctuary.

The Council was also informed that if, by May 1, 2006, it transmits for Secretarial review, an amendment to the Bottomfish and Pelagics FMPs and corresponding proposed regulations implementing limits to bottomfish and pelagic fishing, NOAA may review those Magnuson-Stevens Fishery Conservation and Management Act regulations as potential mechanisms to implement NOAA's preferred alternative for the proposed sanctuary, rather than implementing the alternative via the National Marine Sanctuaries Act.

The Council will conduct public hearings on options to limit bottomfish and pelagic fishing in the NWHI.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or (808)522-8226 (fax), at least 5 days prior to the meeting date.

Authority: 16 U.S.C. 1801 et seq.

Dated: February 17, 2006.
Tracey L. Thompson,
Acting Director, Office of Sustainable Fisheries, National Marine Fisheries Service.

[FR Doc. E6-2720 Filed 2-23-06; 8:45 am]

BILLING CODE 3510-22-S